INTERNATIONAL TRADE COMMISSION

[Inv. Nos. 701-TA-573-574 and 731-TA-1350, 1351, 1354, 1355, and 1358 (Final)]

Carbon and Certain Alloy Steel Wire Rod From Italy, Korea, Spain, Turkey, and the United Kingdom; Determinations

On the basis of the record ¹ developed in the subject investigations, the United States International Trade Commission (“Commission”) determines,² pursuant to the Tariff Act of 1930 (“the Act”), that an industry in the United States is materially injured by reason of imports of carbon and certain alloy steel wire rod from Italy, Korea, Spain, Turkey, and the United Kingdom, provided for in subheadings 7213.91.30, 7213.91.45, 7213.91.60, 7213.99.00, 7227.20.00, and 7227.90.60 of the Harmonized Tariff Schedule of the United States, that have been found by the Department of Commerce (“Commerce”) to be sold in the United States at less than fair value (“LTFV”) and imports of such wire rod found by Commerce to be subsidized by the governments of Italy and Turkey.³

¹ The record is defined in sec. 207.2(f) of the Commission's Rules of Practice and Procedure (19 CFR 207.2(f)).

² Chairman Schmidtlein, Vice Chairman Johanson, and Commissioners Williamson and Broadbent voted in the affirmative. Commissioner Kearns did not participate in these investigations.

³ The Commission also finds that imports of wire rod subject to Commerce's affirmative critical circumstances determinations are not likely to undermine seriously the remedial effect of the antidumping duty orders on imports from Spain and the United Kingdom and the countervailing duty order on imports from Turkey.

Background

The Commission, pursuant to sections 705(b) and 735(b) of the Act (19 U.S.C. 1671d(b) and 19 U.S.C. 1673d(b)), instituted these investigations effective March 28, 2017, following receipt of a petition filed with the Commission and Commerce by Charter Steel, Saukville, Wisconsin; Gerdau Ameristeel US Inc., Tampa, Florida; Keystone Consolidated Industries, Inc., Peoria, Illinois; and Nucor Corporation, Charlotte, North Carolina. Effective September 5, 2017, the Commission established a general schedule for the conduct of the final phase of its investigations on carbon and certain alloy steel wire rod, following preliminary determinations by Commerce that imports of the subject wire rod were subsidized by the governments of Italy and Turkey. Notice of the scheduling of the final phase of the Commission's investigations and of a public hearing to be held in connection therewith was given by posting copies of the notice in the Office of the Secretary, U.S. International Trade Commission, Washington, DC, and by publishing the notice in the Federal Register of September 20, 2017 (82 FR 44001). The hearing was held in Washington, DC, on November 16, 2017 and all persons who requested the opportunity were permitted to appear in person or by counsel.

The Commission made these determinations pursuant to sections 705(b) and 735(b) of the Act (19 U.S.C. 1671d(b) and 19 U.S.C. 1673d(b)). It completed and filed its determinations in these investigations on May 11, 2018. The views of the Commission are contained in USITC Publication 4782, May 2018, entitled Carbon and Certain Alloy Steel Wire Rod from Italy, Korea, Spain, Turkey, and the United Kingdom (Inv. Nos. 701-TA-573-574 and 731-TA-1350-1351, 1354-1355, and 1358 (Final)).

By order of the Commission.
Issued: May 11, 2018.
Katherine Hiner,
Supervisory Attorney.

[FR Doc. 2018-10507 Filed 5-16-18; 8:45 am]

BILLING CODE 7020-02-P